DEPARTMENT OF THE TREASURY

United States Mint

Citizens Coinage Advisory Committee; Meeting

ACTION: Notification of Citizens Coinage Advisory Committee April 14, 2020, telephonic public meeting.

SUMMARY: The United States Mint announces the Citizens Coinage Advisory Committee (CCAC) telephonic public meeting scheduled for April 14, 2020.

Date: April 14, 2020.

Time: 1:00 p.m. to 3:00 p.m. EST.

Location: This meeting will occur via teleconference. Interested members of the public may dial in to listen to the meeting at (866) 564-9287/Access Code: 62956028.

Subject: Review and discussion of candidate designs for the George H.W. Bush Presidential $1 Coin.

Interested persons should call the CCAC HOTLINE at (202) 354-7502 for the latest update on meeting time and location.

Any member of the public interested in submitting matters for the CCAC's consideration is invited to submit them by email to info@ccac.gov.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

FOR FURTHER INFORMATION CONTACT: Jennifer Warren, United States Mint Liaison to the CCAC; 801 9th Street NW; Washington, DC 20220; or call 202-354-7208.

Authority: 31 U.S.C. 5135(b)(8)(C).

David J. Ryder,
Director, United States Mint.

[FR Doc. 2020-06963 Filed 4-2-20; 8:45 am]

BILLING CODE P